COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List previously furnished by nonprofit agencies employing persons who are blind or have other severe disabilities.

DATES: Date deleted from the Procurement List: September 16, 2018.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Deletions

On 7/6/2018 (83 FR 130) and 7/13/2018 (83 FR 135), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

7930-01-648-5018—Floor Finish/Sealer, Black, Water-Based, Slip-Resistant, Asphalt Floors, 5 Gal. Can

7930-01-648-6105—Floor Finish/Sealer, Black, Water-Based, Slip-Resistant, Asphalt Floors, 4/1 Gal. Bottles

Mandatory Source(s) of Supply: Lighthouse for the Blind of Houston, Houston, TX

Contracting Activity: General Services Administration, Fort Worth, TX

NSN(s)—Product Name(s): 530-01-611-6426—Steno Book, 60 Pages, 6″x9″, Green

Mandatory Source(s) of Supply: Alabama Industries for the Blind, Talladega, AL

Contracting Activity: General Services Administration, New York, NY

NSN(s)—Product Name(s): 7510-00-307-7885—Refill, Eraser, Mechanical Pencil, Grey

Mandatory Source(s) of Supply: San Antonio Lighthouse for the Blind, San Antonio, TX

Contracting Activity: General Services Administration, New York, NY

NSN(s)—Product Name(s):

8415-01-581-6578—Liner, Parka, US Navy, Coyote Brown, Medium/XX-Long

8415-01-588-8415—Liner, Parka, US Navy, Coyote Brown, Medium/XX-Long

Mandatory Source(s) of Supply: Winston-Salem Industries for the Blind, Inc., Winston-Salem, NC

Bestwork Industries for the Blind, Inc., Cherry Hill, NJ

Contracting Activity: W6QK ACC-APG NATICK, NATICK, MA

NSN(s)—Product Name(s): 8415-01-588-8415—Liner, Parka, US Navy, Coyote Brown, Medium/XX-Long

Mandatory Source(s) of Supply: Bestwork Industries for the Blind, Inc., Cherry Hill, NJ

Contracting Activity: Defense Logistics Agency Troop Support

Services

Service Type: Operation of Postal Service Center Service

Mandatory for: Eglin Air Force Base: East of Memorial Trail (excluding the airfield) Eglin, FL

Mandatory Source(s) of Supply: Lakeview Center, Inc., Pensacola, FL

Contracting Activity: DEPT OF THE AIR FORCE, FA2823 AFTC PZIO

Service Type: Furniture Service

Mandatory for: MCALF Bogue Field, HWY 70, Bogue, NC, MCAS Cherry Point, Hwy. 101, Cherry Point, NC, MCOLF Atlantic Field, Air Base Road, Atlantic, NC

Mandatory Source(s) of Supply: Coastal Enterprises of Jacksonville, Inc., Jacksonville, NC

Contracting Activity: DOD/DEPARTMENT OF THE NAVY

Service Type: Custodial Service

Mandatory for: U.S. Geological Survey, Willamette Research Station, 1350 SE Goodnight Avenue, Corvallis, OR

Mandatory Source(s) of Supply: Willamette Valley Rehabilitation Center, Inc., Lebanon, OR

Contracting Activity: GEOLOGICAL SURVEY, OFFICE OF ACQUISITION AND GRANTS—SACRAMENTO

Service Type: Administrative Service

Mandatory for: National Advocacy Center, 1620 Pendleton Street, Columbia, SC

Mandatory Source(s) of Supply: UNKNOWN

Contracting Activity: Dept of Justice, Offices, Boards and Divisions,

Service Type: Janitorial/Custodial Service

Mandatory for: Department of the Air Force: 440th Airlift Wing, 300 East College Avenue, Milwaukee, WI

Mandatory Source(s) of Supply: Milwaukee Center for Independence, Inc., Milwaukee, WI

Contracting Activity: DEPT OF THE AIR FORCE, FA6605 440 AW LGC GEN MITCHEL ARS

Service Type: Custodial Service

Mandatory for: Air National Guard, 1401 Robert B. Miller, Jr., Drive, Garden City, GA

Mandatory Source(s) of Supply: Trace, Inc., Boise, ID

Contracting Activity: DEPT OF THE ARMY, W7M3 USPFO ACTIVITY GA ARNG

Service Type: Parts Sorting—Hardware/Small Handtool & Denumbering Service

Mandatory for: Robins Air Force Base, Robins AFB, GA

Mandatory Source(s) of Supply: Houston County Association for Exceptional Citizens, Inc., Warner Robins, GA

Contracting Activity: DEPT OF THE AIR FORCE, FA7014 AFDW PK

Michael R. Jurkowski,
Business Management Specialist, Business Operations.

[FR Doc. 2018-17807 Filed 8-16-18; 8:45 am]

BILLING CODE 6353-01-P